COMMITTEE FOR PURCHASE FROM PEOPLE WHO ARE BLIND OR SEVERELY DISABLED

Procurement List; Proposed Additions

AGENCY: Committee for Purchase from People Who Are Blind or Severely Disabled.

ACTION: Proposed additions to Procurement List.

SUMMARY: The Committee is proposing to add to the Procurement List products and a service to be furnished by nonprofit agencies employing persons who are blind or have other severe disabilities.

COMMENTS MUST BE RECEIVED ON OR BEFORE: September 7, 2003.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments of the proposed actions. If the Committee approves the proposed additions, the entities of the Federal Government identified in the notice for each product or service will be required to procure the products and service listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and service to the Government.

2. If approved, the action will result in authorizing small entities to furnish the products and service to the Government.

3. There are no known regulatory alternatives which would accomplish the objectives of the Javits-Wagner-O'Day Act (41 U.S.C. 46-48c) in connection with the products and service proposed for addition to the Procurement List. Comments on this certification are invited. Commenters should identify the statement(s) underlying the certification on which they are providing additional information.

(End of Certification)

The following products and service are proposed for addition to Procurement List for production by the nonprofit agencies listed:

Products

Product/NSN: CD Cases, Slim, 7045-00-NIB-0179, 7045-00-NIB-0180.

NPA: Wiscraft Inc.—Wisconsin Enterprises for The Blind, Milwaukee, Wisconsin.

Contract Activity: Office Supplies & Paper Products Acquisition Center, New York, New York.

Product/NSN: Full Spectrum Battle Equipment (FSBE), 8415-00-NSH-0691—Basic Shooter's Kit A, 8415-00-NSH-0692—Platoon Kit A, 8415-00-NSH-0768—Platoon Kit B, 8415-00-NSH-0769—Basic Shooter's Kit B, 8415-00-NSH-0770—Platoon Kit C, 8415-00-NSH-0771—Basic Shooter's Kit C.

NPA: Chautauqua County Chapter, NYSARC, Jamestown, New York.

Contract Activity: U.S. Army Robert Morris Acquisition Center, Natick, Massachusetts.

Product/NSN: Lighted Baton, 6260-00-NIB-0005—Amber, 6260-00-NIB-0006—InfraRed, 6260-00-NIB-0008—Red, 6260-00-NIB-0009—Green, 6260-00-NIB-0010—Blue, 6260-00-NIB-0011—Two Toned (Amber/Red).

NPA: L.C. Industries for the Blind, Inc., Durham, North Carolina.

Contract Activity: Office Supplies & Paper Products Acquisition Center, New York, New York.

Product/NSN: Markers, Liquid Impression, 7520-00-NIB-1677—Set/Medium Point (Black, Blue, Red, Green), 7520-00-NIB-1678—Medium Point (Black), 7520-00-NIB-1679—Medium Point (Red), 7520-00-NIB-1680—Medium Point (Blue), 7520-00-NIB-1681—Set/Extra Fine Tip (Black, Blue, Red, Green), 7520-00-NIB-1682—Extra Fine Tip (Black), 7520-00-NIB-1683—Extra Fine Tip (Red),7520-00-NIB-1684—Extra Fine Tip (Blue).

NPA: Winston-Salem Industries for the Blind, Winston-Salem, North Carolina.

Contract Activity: Office Supplies & Paper Products Acquisition Center, New York, New York.

Product/NSN: Markers, Permanent Impression, 7520-00-NIB-1667—Fine Tip (Black), 7520-00-NIB-1668—Fine Tip (Red), 7520-00-NIB-1669—Fine Tip (Blue), 7520-00-NIB-1670—Fine Tip (Green), 7520-00-NIB-1671—Set/Fine Tip (Black, Blue, Red, Green), 7520-00-NIB-1672—Ultra Fine Tip (Black), 7520-00-NIB-1673—Ultra Fine Tip (Red), 7520-00-NIB-1674—Ultra Fine Tip (Blue), 7520-00-NIB-1675—Ultra Fine Tip (Green), 7520-00—NIB-1676—Set/Ultra Fine Tip (Black, Blue, Red, Green).

NPA: Winston-Salem Industries for the Blind, Winston-Salem, North Carolina.

Contract Activity: Office Supplies & Paper Products Acquisition Center, New York, New York.

Product/NSN: Professional LYSOL Brand II Aerosol Disinfectant Spray, 6840-00-NIB-0039—Original Scent, 6840-00-NIB-0040—Fresh Scent, 6840-00-NIB-0041—Country Scent, 6840-00-NIB-0042—Crisp Linen Scent, 6840-00-NIB-0043—Sprint Waterfall, 6840-00-NIB-0044—Plus Fabric Refresher.

NPA: L.C. Industries For The Blind, Inc., Durham, North Carolina.

Contract Activity: Office Supplies & Paper Products Acquisition Center, New York, New York.

Product/NSN: Skilcraft Toner Cartridge, 7510-00-NIB-0633 (New—compatible with HP Part No. 92298A), 7510-00-NIB-0641 (New—compatible with HP Part No. C3903A), 7510-00-NIB-0642 (New—compatible with HP Part No. C3906A), 7510-00-NIB-0644 (New—compatible with HP Part No. C4092A).

NPA: Alabama Industries for the Blind, Talladega, Alabama.

Contract Activity: Office Supplies & Paper Products Acquisition Center, New York, New York.

Service

Service Type/Location: Janitorial/Grounds Maintenance, INS Florence Processing Center, Florence, Arizona.

NPA: J.P. Industries, Inc., Tucson, Arizona.

Contract Activity: DOJ/INS-CA, INS Western Regional Office, Laguna Niguel, California.

Louis R. Bartalot,
Director, Program Analysis and Evaluation.

[FR Doc. 03-20267 Filed 8-7-03; 8:45 am]

BILLING CODE 6353-01-P